ENVIRONMENTAL PROTECTION AGENCY

40 CFR Part 52

[AZ 137-087a; FRL-7886-1]

Revisions to the Arizona State Implementation Plan, Maricopa County Environmental Services Department

AGENCY: Environmental Protection Agency (EPA).

ACTION: Proposed rule.

SUMMARY: EPA is proposing to approve a revision to the Maricopa County Environmental Services Department (MCESD) portion of the Arizona State Implementation Plan (SIP). This revision concerns volatile organic compound (VOC) emissions from the fiberboard saturation process at W.R. Meadows, Inc., Goodyear, AZ. We are proposing to approve a local permit condition that regulates these source-specific emissions under the Clean Air Act as amended in 1990 (CAA or the Act).

DATES: Any comments must arrive by April 18, 2005.

ADDRESSES: Send comments to Andy Steckel, Rulemaking Office Chief (AIR-4), U.S. Environmental Protection Agency, Region IX, 75 Hawthorne Street, San Francisco, CA 94105, or e-mail to steckel.andrew@epa.gov, or submit comments at http://www.regulations.gov.

You can inspect a copy of the submitted SIP revision, EPA's technical support document (TSD), and public comments at our Region IX office during normal business hours by appointment. You may also see copies of the submitted SIP revisions by appointment at the following locations:

Air and Radiation Docket and Information Center, U.S. Environmental Protection Agency, Room B-102, (Mail Code 6102T), 1301 Constitution Avenue, NW., Washington, DC 20460.

Arizona Department of Environmental Quality, 1110 West Washington Street, Phoenix, AZ 85007.

Maricopa County Environmental Services Department, 1001 North Central Avenue, Suite 695, Phoenix, AZ 85004.

A copy of the rule may also be available via the Internet at http://www.maricopa.gov/envsvc/air/ruledesc.asp. Please be advised that this is not an EPA Web site and may not contain the same version of the rule that was submitted to EPA.

FOR FURTHER INFORMATION CONTACT: Al Petersen, EPA Region IX, (415) 947-4118, petersen.alfred@epa.gov.

SUPPLEMENTARY INFORMATION: Throughout this document, “we,” “us” and “our” refer to EPA.

Table of Contents

I. The State's Submittal

A. What Rule Did the State Submit?

B. Are There Other Versions of This Rule?

C. What Is the Purpose of the Submitted Rule?

II. EPA's Evaluation and Action

A. How Is EPA Evaluating the Rule?

B. Does the Rule Meet the Evaluation Criteria?

C. Public Comment and Final Action

III. Statutory and Executive Order Reviews

I. The State's Submittal

A. What Rule Did the State Submit?

Table 1 lists the source-specific permit condition which we are proposing for full approval.

Table 1.—Submitted Rule
Local agency | Rule # | Rule title | Adopted | Submitted
MCESD | Permit V98-004, condition 23 | W.R. Meadows of Arizona, Inc., Goodyear, AZ, RACT Requirements for the Fiberboard Saturation Process

On February 28, 2005, we received a request from ADEQ to parallel process our review of MCESD Permit V98-004, condition 23, concurrently with the MCESD rule adoption process. We have agreed to parallel process this permit condition using our authority under 40 CFR part 51, appendix V, paragraph 2.3.1. Arizona's proposed SIP revision and parallel processing request consists of the SIP Completeness Checklist with the following documents as appendix 1, Resolution to Redact Title V Permit conditions from the W.R. Meadows Plant in Goodyear, Arizona; appendix 2, Permit Conditions, W.R. Meadows of Arizona, Inc., V98-004, April 19, 2004; appendix 3, Reasonably Available Control Technology (RACT) for W.R. Meadows Goodyear, Arizona Production Facility; and appendix 4, Schedule for Final Adoption, W.R. Meadows Permit Resolution.

After receiving the state supplemental submittal once Permit V98-004, condition 23 has been adopted by the MCESD Board of Supervisors, we will determine whether or not the submittal is complete according to the criteria in 40 CFR part 51, appendix V. Our completeness finding will be part of our subsequent final action on this proposal.

B. Are There Other Versions of This Rule?

There are no previous versions of the source-specific permit condition cited in Table 1.

C. What Is the Purpose of the Submitted Rule?

VOCs help produce ground-level ozone and smog, which harm human health and the environment. Section 110(a) of the CAA requires states to submit regulations that control VOC emissions.

The fiberboard saturation process consists of a saturator and a curing area. Recovery of VOC emissions from the saturator by thermal oxidation was determined to fulfill RACT requirements. We believe that regenerative thermal oxidation would also fulfill RACT requirements. Recovery of VOC emissions from the curing area was determined to be not required to fulfill RACT requirements. The TSD has more information about the RACT determination.

II. EPA's Evaluation and Action

A. How Is EPA Evaluating the Rule?

Generally, SIP rules must be enforceable (see section 110(a) of the CAA), must require RACT for major sources of VOC in nonattainment areas (see section 182(a)(2)(A)), and must not relax existing requirements (see sections 110(l) and 193). The MCESD regulates a 1-hour serious ozone nonattainment area (see 40 CFR part 81), so major VOC emission sources must fulfill the requirements of RACT. Such sources that are not in a pre-established VOC source category covered by an existing state or county rule or addressed by a federal control techniques guideline are required to conduct a case-by-case RACT analysis using established EPA guidance. The W.R. Meadows, Goodyear, AZ facility is a major source of VOC that does not fall into a pre-established category. Therefore, a case-by-case RACT analysis is required. The Title V Permit V98-004, condition 23, RACT Requirements for the Fiberboard Saturation Process, describes the RACT requirements determined for the W.R. Meadows, Goodyear, AZ fiberboard saturation process. The source-specific RACT determination described in permit condition 23 must be submitted to the EPA Administrator for approval into the SIP.

Guidance and policy documents that we use to help evaluate specific enforceability and RACT requirements consistently include the following:

• Requirements for Preparation, Adoption, and Submittal of Implementation Plans, EPA, 40 CFR part 51.

• Portions of the proposed post-1987 ozone and carbon monoxide policy that concern RACT, 52 FR 45044 (November 24, 1987).

• Issues Relating to VOC Regulation Cutpoints, Deficiencies, and Deviations, EPA, (May 25, 1988). (the Bluebook)

• Guidance Document for Correcting Common VOC & Other Rule Deficiencies, EPA Region IX (August 21, 2001). (the Little Bluebook)

B. Does the Rule Meet the Evaluation Criteria?

We believe the source-specific RACT determination in the permit condition 23 cited in Table 1 is consistent with the relevant policy and guidance regarding enforceability and RACT requirements. The TSD has more information on our evaluation.

C. Public Comment and Final Action

Because EPA believes the submitted permit condition fulfills all relevant requirements, we are proposing to fully approve it as described in section 110(k)(3) of the CAA. We will accept comments from the public on this proposal for the next 30 days. Unless we receive convincing new information during the comment period, and assuming the final submitted permit condition is substantially identical to the proposed permit condition, we intend to publish a final approval action that will incorporate the rule into the federally enforceable SIP.

III. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Environmental protection, Air pollution control, Incorporation by reference, Intergovernmental relations, Ozone, Reporting and recordkeeping requirements, Volatile organic compounds.

Dated: March 3, 2005.
Wayne Nastri,
Regional Administrator, Region IX.

[FR Doc. 05-5407 Filed 3-17-05; 8:45 am]

BILLING CODE 6560-50-P